ENVIRONMENTAL PROTECTION AGENCY

40 CFR Part 52

[EPA-R09-OAR-2014-0439; FRL-9914-74-Region-9]

Revisions to the California State Implementation Plan, Placer County Air Pollution Control District, Negative Declarations

AGENCY: Environmental Protection Agency (EPA).

ACTION: Proposed rule.

SUMMARY: The Environmental Protection Agency (EPA) is proposing to approve revisions to the Placer County Air Pollution Control District (PCAPCD) portion of the California State Implementation Plan (SIP). These revisions concern negative declarations for volatile organic compound (VOC) source categories for the PCAPCD. We are proposing to approve these negative declarations under the Clean Air Act as amended in 1990 (CAA or the Act).

DATES: Any comments on this proposal must arrive by September 18, 2014.

ADDRESSES: Submit comments, identified by docket number EPA-R09-OAR-2014-0439, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment. Electronic files should avoid the use of special characters, any form of encryption, and be free of any defects or viruses.

Docket: Generally, documents in the docket for this action are available electronically at www.regulations.gov and in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: This proposal addresses the negative declarations listed in Table 1:

Table 1—Submitted Negative Declarations
CTG source category | Negative declaration—CTG reference document
Aerospace | EPA-453/R-97-004—Control of VOC Emissions from Coating Operations at Aerospace Manufacturing and Rework Operations.
Automobile and Light-duty Truck Assembly Coatings | EPA-450/2-77-008—Control of Volatile Organic Emissions from Existing Stationary Sources—Volume II: Surface Coating of Cans, Coils, Paper, Fabrics, Automobiles, and Light-Duty Trucks.
| EPA 450/R-08-006—Control Techniques Guidelines for Automobile and Light-duty Truck Assembly Coatings.
Dry Cleaning (Petroleum) | EPA-450/3-82-009—Control of Volatile Organic Compound Emissions from Large Petroleum Dry Cleaners.
Fiberglass Boat Manufacturing | EPA 453/R-08-004—Control Techniques Guidelines for Fiberglass Boat Manufacturing Materials.
Flexible Package Printing | EPA-453/R-06-003—Control Techniques Guidelines for Flexible Package Printing.
Large Appliances Surface Coatings | EPA-450/2-77-034—Control of Volatile Organic Emissions from Existing Stationary Sources, Volume V: Surface Coating of Large Appliances.
| EPA 453/R-07-004—Control Techniques Guidelines for Large Appliance Coatings.
Magnetic Wire | EPA-450/2-77-033—Control of Volatile Organic Emissions from Existing Stationary Sources, Volume IV: Surface Coating of Insulation of Magnetic Wire.
Metal Furniture Coatings | EPA-450/2-77-032—Control of Volatile Organic Emissions from Existing Stationary Sources, Volume III: Surface Coating of Metal Furniture. EPA 453/R-07-005—Control Techniques Guidelines for Metal Furniture Coatings.
Natural Gas/Gasoline | EPA-450/2-83-007—Control of VOC Equipment Leaks from Natural Gas/Gasoline Processing Plants.
Paper and Fabric | EPA-450/2-77-008—Control of Volatile Organic Emissions from Existing Stationary Sources—Volume II: Surface Coating of Cans, Coils, Paper, Fabrics, Automobiles, and Light-Duty Trucks.
Paper, Film, and Foil Coatings | EPA 453/R-07-003—Control Techniques Guidelines for Paper, Film, and Foil Coatings.
Pharmaceutical Products | EPA-450/2-78-029—Control of Volatile Organic Emissions from Manufacture of Synthesized Pharmaceutical Products.
Refineries | EPA-450/2-77-025—Control of Refinery Vacuum Producing Systems, Wastewater Separators, and Process Unit Turnarounds.
| EPA-450/2-78-036—Control of VOC Leaks from Petroleum Refinery Equipment.
Rubber Tires | EPA-450/2-78-030—Control of Volatile Organic Emissions from Manufacture of Pneumatic Rubber Tires.
Ships/Marine Coating | EPA-453/R-94-032 Alternative Control Technology Document—Surface Coating Operations at Shipbuilding and Ship Repair Facilities and Ships 61 FR 44050 Shipbuilding and Ship Repair Operations (Surface Coating).
Synthetic Organic Chemical | EPA-450/3-84-015—Control of VOC Emissions from Air Oxidation Processes in Synthetic Organic Chemical Manufacturing Industry.
| EPA-450/4-91-031—Control of VOC Emissions from Reactor Processes and Distillation Operations in SOCMI.

In the Rules and Regulations section of this Federal Register, we are approving these negative declarations in a direct final action without prior proposal because we believe these negative declarations are not controversial. If we receive adverse comments, however, we will publish a timely withdrawal of the direct final rule and address the comments in a subsequent action based on this proposed rule. Please note that if we receive adverse comment on an amendment, paragraph, or section of this rule and if that provision may be severed from the remainder of the rule, we may adopt as final those provisions of the rule that are not the subject of an adverse comment.

We do not plan to open a second comment period, so anyone interested in commenting should do so at this time. If we do not receive adverse comments, no further activity is planned. For further information, please see the direct final action.

Dated: July 21, 2014.
Deborah Jordan,
Acting Regional Administrator, Region IX.

[FR Doc. 2014-19424 Filed 8-18-14; 8:45 am]

BILLING CODE 6560-50-P